FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

AG International Cargo Corp (NVO & OFF), 5055 NW 74 Ave, Miami, FL 33166. Officer: Maria C. Reyes, President (QI), Maily C. Reyes, Vice President, Application Type: New NVO and OFF License.

Agunsa Logistics & Distribution (Los Angeles), Inc., 8200 NW 41st Street, Ste 305, Miami, FL 33166. Officer: Eduardo Cabello, CEO (QI), Application Type: Name Change to AGUNSA USA, INC.

Baggio USA, INC. (NVO & OFF), 150 SC 2nd Avenue, Miami, FL 33131. Officers: Marco Maraschin, Assistant Secretary (QI), Paolo M. Baggio, President, Application Type: New NVO and OFF License.

Carex Shipping, LLC dba International Shipping Services, LLC and Accord Overseas (NVO), 3651 Lindell Road, D398, Las Vegas, NV 89103, Officers: Michael Sekirin, President (QI). Application Type: Add Trade Name Accord Overseas.

Caribtrans Logistics, LLC dba Caribtrans dba Sola Ocean Transport dba ABC International (NVO & OFF), 5 East 11th Street, Riviera Beach, FL 33404, Officers: William Munoz, Vice President (QI), Richard Murrell, President. Application Type: QI Change.

Combi Maritime Corporation (NVO), 709 Hindry Avenue, Inglewood, CA 90301, Officers: Andrew Schadegg, President (QI), Mark A. DiBlasi, Chairman. Application Type: QI Change.

qHub Logistics Corporation (NVO & OFF), 8801 Fallbrook Drive, Houston, TX 77064, Officers: John Hsi, Vice President (QI), James J. Huang, CEO. Application Type: QI Change.

The Camelot Company dba Purple Star Line (NVO & OFF), 9865 West Leland Avenue, Schiller Park, IL 60176, Officers: Thomas C. Case, President (QI), Sharon L. Case, Secretary. Application Type: QI Change.

Unitrans International Corporation (OFF), 709 Hindry Avenue, Inglewood, CA 90301, Officers: Andrew Schadegg, President, Mark A. DiBlasi, Chairman, Application Type: QI Change.

By the Commission.
Dated: July 8, 2014.
Karen V. Gregory,
Secretary.

[FR Doc. 2014-16394 Filed 7-11-14; 8:45 am]

BILLING CODE